DEPARTMENT OF THE TREASURY

Submission for OMB Review; Comment Request

February 23, 2016.

The Department of the Treasury will submit the following information collection requests to the Office of Management and Budget (OMB) for review and clearance in accordance with the Paperwork Reduction Act of 1995, Public Law 104-13, on or after the date of publication of this notice.

DATES: Comments should be received on or before March 28, 2016 to be assured of consideration.

ADDRESSES: Send comments regarding the burden estimates, or any other aspect of the information collections, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8117, Washington, DC 20220, or email at PRA@treasury.gov.

FOR FURTHER INFORMATION CONTACT: Copies of the submissions may be obtained by emailing PRA@treasury.gov, calling (202) 622-1295, or viewing the entire information collection request at www.reginfo.gov.

Bureau of the Fiscal Service

OMB Control Number: 1530-0045.

Type of Review: Revision of a currently approved collection.

Title: Supporting Statement of Ownership for Overdue United States Bearer Securities.

Form: FS Form 1071.

Abstract: Form FS Form 1071 is used by the Bureau of the Fiscal Service to establish ownership and support a request for payment when an overdue security is presented and surrendered for redemption.

Affected Public: Individuals or households.

Estimated Total Annual Burden Hours: 50.

OMB Control Number: 1535-0138.

Type of Review: Revision of a currently approved collection.

Title: Treasury Direct.

Abstract: The information collection enables the Bureau of the Fiscal Service and its agents to issue securities, process transactions, make payments, identify owners and their accounts, and provide reports to the Internal Revenue Service.

Affected Public: Individuals or households.

Estimated Total Annual Burden Hours: 351,316.

Brenda Simms,
Treasury PRA Clearance Officer.

[FR Doc. 2016-04203 Filed 2-25-16; 8:45 am]

BILLING CODE 4810-AS-P